DEPARTMENT OF EDUCATION

Office of Special Education and Rehabilitative Services; List of Correspondence

AGENCY: Department of Education.

ACTION: List of Correspondence from July 1, 2009 through September 30, 2009.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laura Duos or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION: The following list identifies correspondence from the Department issued from July 1, 2009 through September 30, 2009. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 612—State Eligibility

Topic Addressed: Children in Private Schools

○ Letter dated September 25, 2009 to Impartial Hearing Officer Sinai Halberstam, clarifying that the U.S. Supreme Court's ruling in Forest Grove School District v. T.A., 129 S.Ct. 2484 (2009) is consistent with the Department's regulations governing children with disabilities enrolled in private schools by their parents.

Topic Addressed: Participation in Assessments

○ Letter dated August 25, 2009 to individual (personally identifiable information redacted), regarding the use of a portfolio assessment as an alternate assessment.

○ Letter dated September 23, 2009 to Texas Education Agency General Counsel David Anderson, clarifying when students with disabilities incarcerated in State and local juvenile or adult correctional facilities must participate in Statewide assessments.

Section 613—Local Educational Agency Eligibility

Topic Addressed: Use of Federal Funds

○ Letter dated September 25, 2009 to Fiscal and Policy Advisor for Greater California Special Education Fiscal Support Alliance J. Sarge Kennedy, regarding the excess costs, supplement not supplant, and local educational agency (LEA) maintenance of effort requirements in Part B of the IDEA.

Section 614—Evaluations, Eligibility Determinations, Individualized Education Programs, and Educational Placements

Topic Addressed: Evaluations, Parental Consent, and Reevaluations

○ Letter dated August 24, 2009 to New York attorney Tara Moffett, regarding whether a school district is required to conduct additional testing of a child with a disability in order for that child to receive accommodations on the Scholastic Aptitude Test (SAT) or American College Test (ACT).

Topic Addressed: Revocation of Consent

○ Letter dated August 21, 2009 to Virginia Assistant Superintendent for Special Education and Student Services H. Douglas Cox, regarding what LEAs are required to do when parents, both of whom have legal authority to make educational decisions for their child, disagree on the revocation of consent for special education and related services.

Topic Addressed: Individualized Education Programs

○ Letter dated August 21, 2009 to Maryland Assistant State Superintendent for the Division of Special Education/Early Intervention Services Carol Ann Heath, denying the request to waive the requirement for a measurable postsecondary goal in employment for students with disabilities who have severe medical conditions and developmental needs and denying the State's request to exclude data on this population of students when reporting on the relevant State Performance Plan/Annual Performance Report indicator.

Section 615—Procedural Safeguards

Topic Addressed: Discipline Procedures

○ Letter dated August 21, 2009 to New Jersey attorney Rotimi Owoh, clarifying when a LEA is required to conduct a manifestation determination review prior to a short-term disciplinary removal of a child with a disability.

Other Letters That Do Not Interpret Idea But May Be of Interest to Readers

Topic Addressed: Seclusion and Restraints

○ Letter dated July 31, 2009 to Chief State School Officers from Secretary of Education Arne Duncan, encouraging schools to review and, if appropriate, revise their current policies and guidelines on the use of seclusion and restraints in schools to ensure that every student is safe and protected from unnecessary or inappropriate restraint or seclusion.

Electronic Access to This Document

You can view this document, as well as all other Department of Education documents published in the Federal Register, in text or Adobe Portable Document Format (PDF) on the Internet at the following site: http://www.ed.gov/news/fedregister/index.html.

To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: March 12, 2010.
Alexa Posny,
Assistant Secretary for Special Education and Rehabilitative Services.

[FR Doc. 2010-5977 Filed 3-17-10; 8:45 am]

BILLING CODE 4000-01-P